DEPARTMENT OF LABOR

Occupational Safety and Health Administration

[Docket No. OSHA-2010-0012]

National Advisory Committee on Occupational Safety and Health (NACOSH), Charter Renewal

AGENCY: Occupational Safety and Health Administration (OSHA), Labor.

ACTION: Notice of renewal of the NACOSH charter.

SUMMARY: The Secretary of Labor has renewed the charter of the National Advisory Committee on Occupational Safety and Health (NACOSH) for two years.

FOR FURTHER INFORMATION CONTACT: Ms. Deborah Crawford, OSHA Directorate of Evaluation and Analysis, Room N-3641, U.S. Department of Labor, 200 Constitution Avenue, NW., Washington, DC 20210; telephone (202) 693-1932.

SUPPLEMENTARY INFORMATION:

The Secretary of Labor (Secretary) has renewed the NACOSH charter. The charter will expire two years from today.

NACOSH was established by Section 7(a) of the Occupational Safety and Health Act of 1970 (the OSH Act) (29 U.S.C. 651, 656) to advise, consult with, and make recommendations to the Secretary and the Secretary of Health and Human Services on matters relating to the administration of the OSH Act. Under the OSH Act, Congress intended NACOSH to be a continuing advisory committee of indefinite duration.

NACOSH operates in accordance with the Federal Advisory Committee Act (FACA) (5 U.S.C. App. 2) and OSHA's regulations on NACOSH (29 CFR part 1912a). Pursuant to FACA and its implementing regulations (41 CFR 102-3), the NACOSH charter must be renewed every two years. The charter expires two years from the date it is signed and filed.

To read or download a copy of the new NACOSH charter, go to Docket No. OSHA-2010-0012 at http://www.regulations.gov, the Federal eRulemaking Portal. The charter also is available on the NACOSH page on OSHA's Web page at http://www.osha.gov and at the OSHA Docket Office, N-2625, U.S. Department of Labor, 200 Constitution Avenue, NW., Washington, DC 20210; telephone (202) 693-2350. In addition, the charter may be viewed or downloaded at the Federal Advisory Committees Database at http://www.fido.gov.

Authority and Signature

David Michaels, PhD, MPH, Assistant Secretary of Labor for Occupational Safety and Health, directed the preparation of this notice under the authority granted by Sections 6(b) and 7(a) of the Occupational Safety and Health Act of 1970 (29 U.S.C. 655, 656), the Federal Advisory Committee Act (5 U.S.C. App. 2), 29 CFR part 1912a, 41 CFR 102-3, and Secretary of Labor's Order 4—2010 (75 FR 55355 (9/10/2010)).

Signed at Washington, DC, on October 26, 2010.
David Michaels,
Assistant Secretary of Labor for Occupational Safety and Health.

[FR Doc. 2010-27439 Filed 10-28-10; 8:45 am]

BILLING CODE 4510-26-P